DEPARTMENT OF LABOR

Office of Labor-Management Standards

29 CFR Part 403

RIN 1245-AA09

Labor Organization Annual Financial Reports for Trusts in Which a Labor Organization Is Interested, Form T-1; Correction

AGENCY: Office of Labor-Management Standards, Department of Labor.

ACTION: Final rule; correction.

SUMMARY: The Department of Labor, Office of Labor-Management Standards is correcting a final rule that appeared in the Federal Register of March 6, 2020. That document revised the forms required by labor organizations under the Labor-Management Reporting and Disclosure Act (“LMRDA” or “Act”). Under the rule, specified labor organizations file annual reports (Form T-1 Trust Annual Report) concerning trusts in which they are interested. The Form T-1 Instructions published with the final rule, however, provided inaccurate examples concerning the applicability dates of the final rule. This document corrects those omissions.

DATES: Effective April 6, 2020.

FOR FURTHER INFORMATION CONTACT: Andrew Davis, Chief of the Division of Interpretations and Standards, Office of Labor-Management Standards, U.S. Department of Labor, 200 Constitution Avenue NW, Room N-5609, Washington, DC 20210, (202) 693-0123 (this is not a toll-free number), (800) 877-8339 (TTY/TDD), OLMS-Public@dol.gov.

SUPPLEMENTARY INFORMATION:

Background

The final rule that is the subject of this correction appeared in the Federal Register of March 6, 2020 (85 FR 13414); the final rule revised the forms required by labor organizations under the Labor-Management Reporting and Disclosure Act (“LMRDA” or “Act”), 29 U.S.C. 431(b). Under the rule, specified labor organizations file annual reports (Form T-1 Trust Annual Report) concerning trusts in which they are interested. The final rule also sets forth the Department's review of and response to comments on the proposed rule. Under this rule, the Department required a labor organization with total annual receipts of $250,000 or more (and, which therefore is obligated to file a Form LM-2 Labor Organization Annual Report) to also file a Form T-1, under certain circumstances, for each trust of the type defined by section 3(l) of the LMRDA, 29 U.S.C. 402(l) (defining “trust in which a labor organization is interested”). The rule provided appropriate instructions and revised relevant sections relating to such reports. The Form T-1 Instructions, however, provided inaccurate examples of the rule's applicability dates. See Form T-1 Instructions, Part II (When to File) at 85 FR 13451. The second through fourth examples indicated, incorrectly, that the first Form T-1 reports, in the examples, were due later than the operative language indicated they would in Part II of the Form T-1 Instructions. This correction remedies this error by inserting the appropriate dates to the examples, thereby ensuring consistency with the operative language in the instructions.

Need for Correction

As published, the final rule contained errors within the Form T-1 Instructions, at 85 FR 13451 (col. 2), which illustrates the prospective effect of the final rule.

Appendix [Corrected]

In FR Doc. 2020-03958, in the Federal Register of Friday, March 6, 2020, correct page 13451 to read as follows:

BILLING CODE 4510-86-P

Signed in Washington, DC.
Arthur F. Rosenfeld,
Director, Office of Labor-Management Standards.

[FR Doc. 2020-06079 Filed 3-27-20; 8:45 am]

BILLING CODE 4510-86-C